DEPARTMENT OF TRANSPORTATION

Federal Aviation Administration

14 CFR Part 39

[Docket No. FAA-2025-2272; Project Identifier MCAI-2025-00818-A]

RIN 2120-AA64

Airworthiness Directives; Piaggio Aviation S.p.A. Airplanes

AGENCY: Federal Aviation Administration (FAA), DOT.

ACTION: Notice of proposed rulemaking (NPRM).

SUMMARY: The FAA proposes to adopt a new airworthiness directive (AD) for certain Piaggio Aviation S.p.A. (Piaggio) Model P-180 airplanes. This proposed AD was prompted by a report of leakage from the flexible hydraulic hoses connected to the hydraulic pump package (HPP). This proposed AD would require replacing the affected flexible hydraulic hoses. This proposed AD would also prohibit installing the affected flexible hydraulic hoses on any airplane. The FAA is proposing this AD to address the unsafe condition on these products.

DATES: The FAA must receive comments on this NPRM by October 20, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-2272; or in person at Docket Operations between 9 a.m. and 5 p.m., Monday through Friday, except Federal holidays. The AD docket contains this NPRM, the mandatory continuing airworthiness information (MCAI), any comments received, and other information. The street address for Docket Operations is listed above.

Material Incorporated by Reference:

• For Piaggio Aerospace material identified in this proposed AD, contact Piaggio, P180 Customer Support, via Pionieri e Aviatori d'Italia, snc—16154 Genoa, Italy; phone: +39 331 679 74 93; email: technicalsupport@piaggioaerospace.it.

• You may view this material at the FAA, Airworthiness Products Section, Operational Safety Branch, 901 Locust, Kansas City, MO 64106. For information on the availability of this material at the FAA, call (817) 222-5110.

FOR FURTHER INFORMATION CONTACT: Adam Hein, Aviation Safety Engineer, FAA, 1600 Stewart Avenue, Suite 410, Westbury, NY 11590; phone: (316) 946-4116; email: adam.hein@faa.gov.

SUPPLEMENTARY INFORMATION:

Comments Invited

The FAA invites you to send any written relevant data, views, or arguments about this proposal. Send your comments using a method listed under ADDRESSES. Include “Docket No. FAA-2025-2272; Project Identifier MCAI-2025-00818-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Adam Hein, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2025-0102, dated May 5, 2025 (EASA AD 2025-0102) (also referred to as the MCAI), to correct an unsafe condition on Piaggio Model P-180 Avanti and Avanti II airplanes, manufacturer serial numbers 1002, 1004 to 1234 inclusive, and 3001 to 3018 inclusive. The MCAI states that leakage from the flexible hydraulic hoses was reported on a Model P-180 airplane. A subsequent investigation revealed that the failure of the HPP electrical motor caused an anomalous current to return through the HPP body, resulting in electrical arcing. This arcing, which occurred as the HPP body was in contact with a flexible steel braided hose, punctured the flexible hydraulic hose. Additionally, the improper installation of the HPP, specifically the incorrect routing of the hydraulic flexible lines according to the airplane maintenance manual, contributed to the incident. This condition, if not detected and corrected, could lead to leaks developing in the flexible hydraulic hoses, which could result in loss of the hydraulic system or fire in the HPP area.

To address the unsafe condition, the MCAI requires replacing the affected flexible hydraulic hoses with a new serviceable part.

You may examine the MCAI in the AD docket at regulations.gov under Docket No. FAA-2025-2272.

Material Incorporated by Reference Under 1 CFR Part 51

The FAA reviewed Piaggio Aerospace Service Bulletin 80-0497, Revision 0, dated March 5, 2025 (Piaggio SB 80-0497, Revision 0). This material specifies procedures for replacing the affected flexible hydraulic hoses with new flexible hydraulic hoses that have a non-metallic and non-conductive abrasion sleeve covering the steel braid which will provide electrical insulation that can prevent arcing and electrostatic discharge in case of accidental contact between the flexible hydraulic hoses and HPP body. This material is reasonably available because the interested parties have access to it through their normal course of business or by means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this NPRM after determining that the unsafe condition described previously is likely to exist or develop on other products of the same type design.

Proposed AD Requirements in This NPRM

This proposed AD would require accomplishing the actions specified in the material already described. This proposed AD would also prohibit installing the affected flexible hydraulic hoses on any airplane.

Costs of Compliance

The FAA estimates that this AD, if adopted as proposed, would affect 107 airplanes of U.S. registry.

The FAA estimates the following costs to comply with this proposed AD:

Estimated Costs
Action | Labor cost | Parts cost | Cost per product | Cost on U.S. operators
Replace flexible hydraulic hoses | 22 work-hours × $85 per hour = $1,870 | $1,241 | $3,111 | $332,877

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Piaggio Aviation S.p.A.: Docket No. FAA-2025-2272; Project Identifier MCAI-2025-00818-A.

(a) Comments Due Date

The FAA must receive comments on this airworthiness directive (AD) by October 20, 2025.

(b) Affected ADs

None.

(c) Applicability

This AD applies to Piaggio Aviation S.p.A. Model P-180 airplanes, manufacturer serial numbers 1002, 1004 through 1234 inclusive, and 3001 through 3018 inclusive, certificated in any category.

(d) Subject

Joint Aircraft System Component (JASC) Code 2910, Hydraulic System, Main.

(e) Unsafe Condition

This AD was prompted by a report of leakage from the flexible hydraulic hoses connected to the hydraulic pump package (HPP). The FAA is issuing this AD to prevent contact between the flexible hydraulic hoses and the HPP body, which could result in leaks developing in the flexible hydraulic hoses. The unsafe condition, if not addressed, could result in loss of the hydraulic system or fire in the HPP area.

(f) Compliance

Comply with this AD within the compliance times specified, unless already done.

(g) Required Action

For airplanes with flexible hydraulic hoses part number (P/N) AS117-04-0205 or P/N 98E0520FAMA000W (landing gear (LG) up and LG down lines); or flexible hydraulic hoses P/N MS8006G207AL or P/N 99G0530FDFD000W (return line) installed: Within 660 hours time-in-service after the effective date of this AD, replace the affected flexible hydraulic hoses in accordance with part 2. B. and 2. C. of the Accomplishment Instructions of Piaggio Aerospace Service Bulletin 80-0497, Revision 0, dated March 5, 2025.

(h) Installation Prohibition

For all airplanes, after the effective date of this AD, do not install flexible hydraulic hoses with part number (P/N) AS117-04-0205 or P/N 98E0520FAMA000W (LG up and LG down lines); or flexible hydraulic hoses P/N MS8006G207AL or P/N 99G0530FDFD000W (return line) on any airplane.

(i) Alternative Methods of Compliance

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov. Before using any approved AMOC, notify your appropriate principal inspector, or lacking a principal inspector, the manager of the local flight standards district office/certificate holding district office.

(j) Additional Information

For more information about this AD, contact Adam Hein, Aviation Safety Engineer, FAA, 1600 Stewart Avenue, Suite 410, Westbury, NY 11590; phone: (316) 946-4116; email: adam.hein@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Piaggio Aerospace Service Bulletin 80-0497, Revision 0, dated March 5, 2025.

(ii) [Reserved]

(3) For Piaggio Aerospace material identified in this AD, contact Piaggio Aviation S.p.A., P180 Customer Support, via Pionieri e Aviatori d'Italia, snc—16154 Genoa, Italy; phone: +39 331 679 74 93; email: technicalsupport@piaggioaerospace.it.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on August 28, 2025.
Paul R. Bernado,
Acting Director, Compliance & Airworthiness Division, Aircraft Certification Service.

[FR Doc. 2025-17033 Filed 9-4-25; 8:45 am]

BILLING CODE 4910-13-P